DEPARTMENT OF HEALTH AND HUMAN SERVICES

Office of the National Coordinator for Health Information Technology; American Health Information Community; Announcement of Public Comment Period About the Design and Implementation of the American Health Information Community Successor

SUMMARY: This notice announces a public comment period, from August 6, 2007 to August 31, 2007, to collect input about ideas for the design and implementation of a successor entity for the American Health Information Community (AHIC) as described in the American Health Information Community Successor White paper, July 2007 (available on the Web at http://www.hhs.gov/healthit/community/background/AHICsuccessor. html on or after July 31, 2007).

The ANIC is a federally-chartered advisory committee that provides input and recommendations to the Department of Health and Human Services (HHS) on how to make health records digital and interoperable, and how to assure that the privacy and security of those records are protected. The charter of the AHIC requires that its responsibilities be transferred to a successor entity. Therefore, HHS and the AHIC are embarking upon a project that will take the AHIC to the next level. The successor entity will be an independent, sustainable public-private partnership that brings together the best of the public and private sectors. This new public-private partnership will develop a unified approach to realize an effective, interoperable nationwide health information system that supports the health and well-being of the people of this country. The input from this public comment period will be used to inform the plans for transitioning the locus of activity from a Federal advisory committee to a independent public-private partnership.

HHS and the AHIC are eager to hear the thoughts of your organization with respect to the AHIC successor entity. To facilitate your participation in this process, you are encouraged to provide your comments organized by the following concepts:

• Purpose and scope of the successor entity

• Membership, including classes and sectors

• Governing body and decision-making process

• Protections, incorporation, management, and staffing

• Value of participation in the successor entity for stakeholders

All comments in any format will be accepted.

DATES: Comments should be received by the Office of the National Coordinator for Health Information Technology, Department of Health and Human Services, on or before 5 p.m. EST on August 31, 2007.

ADDRESSES: electronic responses are preferred and may be recorded via the Web site at http://www.hhs.gov/healthit/commhnity/background/AHICsuccessor.html or may be sent via e-mail addressed to AHICsuccessor@hhs.gov in the Office of the National Coordinator for Health Information Technology, Department of Health and Human Services. Please include “AHIC Successor White Paper Comments” in the subject line.

Paper-based responses will also be accepted. Please send to: Office of the National Coordinator for Health Information Technology, Department of Health and Human Services, Attention: AHIC Successor White Paper Comments, Mary C. Switzer Building, 330 C Street, SW., Room 4080, Washington, DC 20201, or fax to (202) 690-6079, Attention: AHIC Successor White Paper Comments.

FOR FURTHER INFORMATION: Visit http://www.hhs.gov/healthit/community/background/AHICsuccessor.html.

Dated: July 27, 2007.
Michelle Murray,
Office of Programs and Coordination, Office of the National Coordinator for Health Information Technology.

[FR Doc. 07-3768 Filed 8-1-07; 8:45 am]

BILLING CODE 4150-24-M